DEPARTMENT OF THE TREASURY

Submission for OMB Review; Comment Request

March 26, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 1, 2002 to be assured of consideration.

INTERNAL REVENUE SERVICE (IRS)

OMB Number: 1545-1395.

Form Number: IRS Form 8838.

Type of Review: Extension.

Title: Consent to Extend the Time to Assess Tax Under Section 367-Gain Recognition Agreement.

Description: Form 8838 is used to extend the statute of limitations for U.S. persons who transfer stock or securities to a foreign corporation. The form is filed when the transferor makes a gain recognition agreement. This agreement allows the transferor to defer the payment of tax on the transfer. The IRS uses Form 8838 so that it may assess tax against the transferor after the expiration of the original statute of limitations.

Respondents: Business or other for-profit, individuals or households.

Estimated Number of Respondents/Recordkeepers: 1,000.

Estimated Burden Hours Per Respondent/Recordkeeper:

Recordkeeping—4 hr., 32 min.

Learning about the law or the form—2 hr., 9 min.

Preparing the form—3 hr., 15 min.

Copying, assembling, and sending the form to the IRS—16 min.

Frequency of Response: On occasion.

Estimated Total Reporting/Recordkeeping Burden: 10,220 hours.

Clearance Officer: Glenn Kirkland, Internal Revenue Service, Room 6411, 1111 Constitution Avenue, NW., Washington, DC 20224.

OMB Reviewer: Alexander T. Hunt (202) 395-7860, Office of Management and Budget, Room 10202, New Executive Office Building, Washington, DC 20503.

Mary A. Able,
Departmental Reports Management Officer.

[FR Doc. 02-7768 Filed 3-29-02; 8:45 am]

BILLING CODE 4830-01-P